DEPARTMENT OF STATE

[Public Notice: 11401]

Certification Under Section 1704(A)(2) of the Sudan Claims Resolution Act Relating to the Receipt of Funds for Settlement of Claims Against Sudan

By virtue of the authority vested in me as Secretary of State, including pursuant to section 1704(a)(2) of the Sudan Claims Resolution Act (Title XVII, Division FF, Pub. L. 116-260) (the “Act”), I hereby certify that:

(A) The August 12, 1993, designation of Sudan as a state sponsor of terrorism has been formally rescinded;

(B) Sudan has made final payments with respect to the private settlement of the claims of victims of the U.S.S. COLE attack; and

(C) the United States Government has received funds pursuant to the United States-Sudan Claims Settlement Agreement that are sufficient to ensure:

(i) Payment of the agreed private settlement amount for the death of a citizen of the United States who was an employee of the United States Agency for International Development in Sudan on January 1, 2008;

(ii) meaningful compensation for claims of citizens of the United States (other than individuals described in section 1707(a)(1) of the Act) for wrongful death or physical injury in cases arising out of the August 7, 1998, bombings of the United States embassies located in Nairobi, Kenya, and Dar es Salaam, Tanzania; and

(iii) funds for compensation through a fair process to address compensation for terrorism-related claims of foreign nationals for wrongful death or physical injury arising out of the events referred to in clause (ii).

This certification shall be published in the Federal Register and shall be transmitted, along with the accompanying Memorandum of Justification, to the appropriate congressional committees.

Dated: March 20, 2021.
Antony J. Blinken,
Secretary of State.

[FR Doc. 2021-07474 Filed 4-9-21; 8:45 am]

BILLING CODE 4710-08-P